DEPARTMENT OF LABOR

Occupational Safety and Health Administration

29 CFR Part 1910

RIN 1218-AC41

Combustible Dust

AGENCY: Occupational Safety and Health Administration (OSHA), Labor.

ACTION: Notice of stakeholder meetings.

SUMMARY: OSHA invites interested parties to participate in informal stakeholder meetings on the workplace hazards of combustible dust. OSHA plans to use the information gathered at these meetings in developing a proposed standard for combustible dust.

DATES: Dates and locations for the stakeholder meetings are:

• December 14, 2009, at 9 a.m., in Washington, DC.

• December 14, 2009, at 1 p.m., in Washington, DC.

• Additional meetings are planned for early 2010, and will be announced in one or more subsequent notices.

ADDRESSES:

I. Registration

Submit your notice of intent to participate in one of the scheduled or future stakeholder meetings by one of the following:

• Electronic. Register at https://www2.ergweb.com/projects/conferences/osha/register-osha-stakeholder.htm (follow the instructions online).

• Facsimile. Fax your request to: (781) 674-2906, and label it “Attention: OSHA Combustible Dust Stakeholder Meeting Registration.”

• Regular mail, express delivery, hand (courier) delivery, and messenger service. Send your request to: ERG, Inc., 110 Hartwell Avenue, Lexington, MA 02421; Attention: OSHA Combustible Dust Stakeholder Meeting Registration.

II. Meetings

The December 14, 2009, meetings will be held at the Marriott at Metro Center, 775 12th Street, NW., Washington, DC, 20005.

The 2010 meeting dates and locations will be announced in one or more subsequent notices.

FOR FURTHER INFORMATION CONTACT: Information regarding this notice is available from the following sources:

• Press inquiries. Contact Jennifer Ashley, Director, OSHA Office of Communications, Room N-3647, U.S. Department of Labor, 200 Constitution Avenue, NW., Washington, DC 20210; telephone: (202) 693-1999.

• General and technical information. Contact Don Pittenger, Director, Office of Safety Systems, OSHA Directorate of Standards and Guidance, Room N-3609, U.S. Department of Labor, 200 Constitution Avenue, NW., Washington, DC 20210; telephone: (202) 693-2255.

• Copies of this Federal Register notice. Electronic copies are available at http://www.regulations.gov. This Federal Register notice, as well as news releases and other relevant information, also are available on the OSHA Web page at http://www.osha.gov.

SUPPLEMENTARY INFORMATION:

I. Background

The hazards of combustible dust encompass a wide array of materials, industries, and processes. Any combustible material can burn rapidly when in a finely divided form. Materials that may form combustible dust include, but are not limited to, wood, coal, plastics, biosolids, candy, sugar, spice, starch, flour, feed, grain, fertilizer, tobacco, paper, soap, rubber, drugs, dried blood, dyes, certain textiles, and metals (such as aluminum and magnesium). Industries that may have combustible dust hazards include, among others: Animal food manufacturing, grain handling, food manufacturing, wood product manufacturing, chemical manufacturing, textile manufacturing, furniture manufacturing, metal processing, fabricated metal products and machinery manufacturing, pesticide manufacturing, pharmaceutical manufacturing, tire manufacturing, production of rubber and plastics, plastics and rubber products manufacturing, recycling, wastewater treatment, and coal handling.

OSHA is developing a standard that will comprehensively address the fire and explosion hazards of combustible dust. The Agency has issued an Advanced Notice of Proposed Rulemaking (ANPR) (74 FR 54334) requesting comments, including data and other information, on issues related to the hazards of combustible dust in the workplace. OSHA plans to use the information received in response to the ANPR and at the stakeholder meetings in developing a proposed standard for combustible dust.

II. Stakeholder Meetings

The stakeholder meetings will be conducted as a group discussion on views, concerns, and issues surrounding the hazards of combustible dust. To facilitate as much group interaction as possible, formal presentations will not be permitted. Formal input should be submitted as indicated in the ANPR referenced earlier in this notice. OSHA believes the stakeholder meeting discussion should center on major issues such as:

• Possible regulatory approaches.

• Scope.

• Organization of a prospective standard.

• The role of consensus standards.

• Economic impacts.

• Additional topics as time permits.

OSHA plans to hold additional meetings in the early part of 2010, after the ANPR comment period has closed and the Agency has begun to analyze the comments received. One or more additional notices will be published with the information for those meetings. Stakeholders interested in participating in a 2010 meeting may express their intent through one of the methods specified in the ADDRESSES section of this notice under Registration. You will be contacted regarding the dates and locations of the future meetings.

III. Public Participation

Approximately 35 participants will be accommodated in each meeting, and three hours will be allotted for each meeting. Members of the general public may observe, but not participate in, the meetings on a first-come, first-served basis as space permits. OSHA staff will be present to take part in the discussions. Logistics for the meetings are being managed by Eastern Research Group, which will provide a facilitator and compile notes summarizing the discussion; these notes will not identify individual speakers. ERG also will make an audio recording of each session to ensure that the summary notes are accurate; these recordings will not be transcribed. The summary notes will be posted on the docket for the Combustible Dust ANPR, Docket ID: OSHA2009-0023, available at the Web site http://www.regulations.gov.

The meetings are as follows:

• December 14, 2009, 9 a.m., Marriott at Metro Center, 775 12th Street, NW., Washington, DC 20005.

• December 14, 2009, 1 p.m., Marriott at Metro Center, 775 12th Street, NW., Washington, DC 20005.

• The 2010 meeting dates and locations will be announced in one or more subsequent notices.

You may submit notice of intent to participate in one of the stakeholder meetings electronically, by facsimile, or by hard copy. See the ADDRESSES section of this notice for the registration Web site, facsimile number, and address. To register electronically, follow the instructions provided on the Web site. To register by mail or facsimile, please indicate the following:

• Name, address, phone, fax, and e-mail.

• First and second preferences of meeting time.

• Organization for which you work.

• Organization you represent (if different).

• Stakeholder category: government, industry, standards-developing organization, research or testing agency, union, trade association, insurance, fire protection equipment manufacturer, consultant, or other (if other, please be specific).

• Industry sector (if applicable): metals, wood products, grain or wet corn milling, food (including sugar), pharmaceutical or chemical manufacturing, paper products, rubber or plastics, coal, or other (if other, please be specific).

Electronic copies of this Federal Register notice, as well as news releases and other relevant documents, are available on the OSHA Web page at: http://www.osha.gov.

IV. Authority and Signature

This document was prepared under the direction of Jordan Barab, Acting Assistant Secretary of Labor for Occupational Safety and Health, U.S. Department of Labor, pursuant to sections 4, 6, and 8 of the Occupational Safety and Health Act of 1970 (29 U.S.C. 653, 655, 657), 29 CFR part 1911, and Secretary's Order 5-2007 (72 FR 31160).

Signed at Washington, DC, on November 5th, 2009.
Jordan Barab,
Acting Assistant Secretary of Labor for Occupational Safety and Health.

[FR Doc. E9-27003 Filed 11-9-09; 8:45 am]

BILLING CODE 4510-26-P